DEPARTMENT OF COMMERCE

National Oceanic and Atmospheric Administration

[I.D. 080904B]

South Atlantic Fishery Management Council; Public Meeting

AGENCY: NOAA Fisheries (NMFS), National Oceanic and Atmospheric Administration (NOAA), Commerce.

ACTION: Notice of the South Atlantic Fishery Management Council Researcher Workshop for the Oculina Experimental Closed Area and Deepwater Coral/Habitat.

SUMMARY: The South Atlantic Fishery Management Council (Council) will hold a technical research workshop in Cape Canaveral, FL involving invited scientists with backgrounds in deepwater coral and the Oculina Bank area.

DATES: The workshop will take place August 31 through September 3, 2004. See SUPPLEMENTARY INFORMATION for specific dates and times.

ADDRESSES: The workshop will be held at the Radisson Resort at the Port, 8701 Astronaut Boulevard, Cape Canaveral, FL 32920; telephone: 321-784-0000 or 800-333-3333.

FOR FURTHER INFORMATION CONTACT: Kim Iverson, Public Information Officer, South Atlantic Fishery Management Council, One Southpark Circle, Suite 306, Charleston, SC 29407; telephone: 843-571-4366 or 866-SAFMC-10; fax: 843-769-4520.

SUPPLEMENTARY INFORMATION: Workshop participants will meet from 1 p.m. until 5 p.m. on August 31, 2004, from 8:30 a.m. until 5 p.m. on September 1-2, 2004, and from 8:30 a.m. until 1 p.m. on September 3, 2004. The workshop has two primary goals: (1) Development of a research and monitoring plan for the Oculina Experimental Closed Area, and (2) Development of a research and monitoring plan for deepwater coral and associated habitat.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aids should be directed to the Council office (see ADDRESSES) by August 27, 2004.

Dated: August 12, 2004.
Alan D. Risenhoover,
Acting Director, Office of Sustainable Fisheries, National Marine Fisheries Service.

[FR Doc. 04-18831 Filed 8-16-04; 8:45 am]

BILLING CODE 3510-22-S